SOCIAL SECURITY ADMINISTRATION

Privacy Act of 1974 as Amended; Computer Matching Program (SSA/Department of the Treasury, Internal Revenue Service (IRS))—Match 1310

AGENCY: Social Security Administration (SSA).

ACTION: Notice of a new computer matching program, which is expected to begin October 1, 2006.

SUMMARY: In accordance with the provisions of the Privacy Act, as amended, this notice announces a computer matching program that SSA plans to conduct with the IRS.

DATES: SSA will file a report of the subject matching program with the Committee on Homeland Security and Governmental Affairs of the Senate, the Committee on Government Reform of the House of Representatives, and the Office of Information and Regulatory Affairs, Office of Management and Budget (OMB). The matching program will be effective as indicated below.

ADDRESSES: Interested parties may comment on this notice by either telefaxing to (410) 965-8582 or by writing to the Associate Commissioner, Office of Income Security Programs, 252 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. 552a) by describing the manner in which computer matching involving Federal agencies could be performed and adding certain protections for individuals applying for, and receiving, Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records.

It requires Federal agencies involved in computer matching programs to:

(1) Negotiate written agreements with the other agency or agencies participating in the matching programs;

(2) Obtain the Data Integrity Boards' approval of the match agreements;

(3) Publish notice of the computer matching program in the Federal Register;

(4) Furnish detailed reports about matching programs to Congress and OMB;

(5) Notify applicants and beneficiaries that their records are subject to matching; and

(6) Verify match findings before reducing, suspending, terminating, or denying an individual's benefits or payments.

B. SSA Computer Matches Subject to the Privacy Act

We have taken action to ensure that all of SSA's computer matching programs comply with the requirements of the Privacy Act, as amended.

Dated: August 4, 2006.
Martin H. Gerry,
Deputy Commissioner for Disability and Income Security Programs.

Notice of Computer Matching Program, Social Security Administration (SSA) with Internal Revenue Service (IRS)

A. Participating Agencies

SSA and IRS

B. Purpose of the Matching Program

The purpose of this matching program is to establish the correct amount of Medicare Part B premium subsidy adjustment under section 1839(i) of the Medicare Prescription Drug, Improvement and Modernization Act of 2003 (MMA). Pursuant to section 1839(i) of the MMA (42 U.S.C. 1395r), SSA shall determine whether a Medicare Part B enrollee would pay a larger percentage of the Part B premium than an individual with income below the applicable threshold.

C. Authority for Conducting the Matching Program

Section 6103(l)(20) of the Internal Revenue Code (26 U.S.C. 6103(1)(20)) authorizes the IRS to disclose return information with respect to Modified Adjusted Gross Income (MAGI) to SSA for the purpose of adjusting the usual Part B premium subsidy for Medicare beneficiaries with MAGI above the applicable threshold. Section 1839(i) of the MMA requires the Commissioner of SSA to determine the amount of an individual's Part B premium if the MAGI is above the applicable threshold for an individual or a married couple as established in section 1839(i)(2)(A) of the Act.

D. Categories of Records and Individuals Covered by the Matching Program

SSA will provide the IRS with identifying information with respect to enrollees for Medicare Part B from the Master Beneficiary Record system of records, SSA/ORSIS 60-0090, originally published at 60 FR 2144 (January 6, 1995) and as revised at 71 FR 1826 (January 11, 2006). MAGI data provided by the IRS will be maintained in the Medicare Database system of records, SSA/ORSIS 60-0321, published at 69 FR 77816 (December 28, 2004), which is currently being revised to include the Medicare Part B income related monthly adjustment amount. IRS will extract return information with respect to MAGI from the Return Transaction File, which is a part of the Individual Returns, Adjustments and Miscellaneous Documents File, Treasury/IRS 22.034, as published at 66 FR 63794 (December 10, 2001).

E. Inclusive Dates of the Matching Program

The matching program will become effective no sooner than 40 days after notice of the matching program is sent to Congress and OMB, or 30 days after publication of this notice in the Federal Register, whichever date is later. The matching program will continue for 18 months from the effective date and may be extended for an additional 12 months thereafter, if certain conditions are met.

[FR Doc. E6-13863 Filed 8-21-06; 8:45 am]

BILLING CODE 4191-02-P